DEPARTMENT OF COMMERCE

Submission for OMB Review; Comment Request

The Department of Commerce will submit to the Office of Management and Budget (OMB) for clearance the following proposal for collection of information under the provisions of the Paperwork Reduction Act (44 U.S.C. chapter 35).

Agency: Bureau of Industry and Security (BIS).

Title: Chemical Weapons Convention (CWC) Declaration and Report Handbook and Forms.

OMB Control Number: 0694-0091.

Form Number(s): Form 1-1; Form 1-2; Form 1-2A; Form 1-2B, etc.

Type of Request: Regular submission (extension of a currently approved information collection).

Burden Hours: 14,813.

Number of Respondents: 779.

Average Hours per Response: 10 minutes to 577 hours.

Needs and Uses: This information is required for the United States to comply with its obligations under the Chemical Weapons Convention, an international arms control treaty. The Chemical Weapons Convention Implementation Act of 1998 and Commerce Chemical Weapons Convention Regulations specify the rights, responsibilities and obligations for submission of declarations, reports and inspections.

Affected Public: Business and other for-profit organizations.

Frequency: On occasion.

Respondent's Obligation: Mandatory.

OMB Desk Officer: Jasmeet Seehra, (202) 395-3123.

Copies of the above information collection proposal can be obtained by calling or writing Jennifer Jessup, Departmental Paperwork Clearance Officer, (202) 482-0336, Department of Commerce, Room 6616, 14th and Constitution Avenue NW., Washington, DC 20230 (or via the Internet at jjessup@doc.gov.

Written comments and recommendations for the proposed information collection should be sent within 30 days of publication of this notice to Jasmeet Seehra, OMB Desk Officer, by email to Jasmeet_K._Seehra@omb.eop.gov or by fax to (202) 395-5167.

Dated: February 15, 2013.
Gwellnar Banks,
Management Analyst, Office of the Chief Information Officer.

[FR Doc. 2013-04071 Filed 2-21-13; 8:45 am]

BILLING CODE 3510-33-P